NUCLEAR REGULATORY COMMISSION

[Docket No. 50-410]

Nine Mile Point Nuclear Station, LLC (NMPNS); Long Island Lighting Company; Notice of Withdrawal of Application for Amendment to Facility Operating License

The U.S. Nuclear Regulatory Commission (the Commission) has granted the request of NMPNS (the licensee) to withdraw its April 1, 2005, application for proposed amendment to Facility Operating License No. NPF-69 for the Nine Mile Point Nuclear Station, Unit No. 2, located in Oswego County, New York.

The proposed amendment would have revised the Technical Specifications (TSs) pertaining to Required Action A.1 of TS 3.8.7, “Inverters—Operating,” to extend the Completion Time for one emergency uninterruptible power supply (UPS) inverter inoperable from 24 hours to 7 days. The associated Bases would also be changed to reflect the proposed TS change.

The Commission had previously issued a Notice of Consideration of Issuance of Amendment published in the Federal Register on May 10, 2005 (70 FR 24653). However, by letter dated September 30, 2005, the licensee withdrew the proposed change.

For further details with respect to this action, see the application for amendment dated April 1, 2005, and the licensee's letter dated September 30, 2005, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 28th day of October 2005.
For the Nuclear Regulatory Commission.
Timothy G. Colburn,
Senior Project Manager, Section 1, Project Directorate I, Division of Licensing Project Management, Office of Nuclear Reactor Regulation.

[FR Doc. E5-6118 Filed 11-3-05; 8:45 am]

BILLING CODE 7590-01-P